NATIONAL AERONAUTICS AND SPACE ADMINISTRATION

[Notice (11-025)]

NASA Advisory Council; Science Committee; Planetary Science Subcommittee; Meeting

AGENCY: National Aeronautics and Space Administration.

ACTION: Notice of meeting.

SUMMARY: In accordance with the Federal Advisory Committee Act, Public Law 92-463, as amended, the National Aeronautics and Space Administration (NASA) announces a meeting of the Planetary Science Subcommittee of the NASA Advisory Council (NAC). This Subcommittee reports to the Science Committee of the NAC. The Meeting will be held for the purpose of soliciting from the scientific community and other persons scientific and technical information relevant to program planning.

DATES: Monday, April 18, 2011, 8:30 a.m. to 5 p.m., and Tuesday, April 19, 2011, 8:30 a.m. to 4 p.m., Local Time.

ADDRESSES: NASA Headquarters, 300 E Street, SW., Rooms 3H46 and 5H45 consecutively, Washington, DC 20546.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. This meeting is also available telephonically and by WebEx. Any interested person may call the USA toll free conference call number 800-779-7680, pass code PSS, to participate in this meeting by telephone. The WebEx link is https://nasa.webex.com, meeting number on April 18 is 996 764 473, and password PSS_Apr18; the meeting number on April 19 is 998 076 509, and password PSS_Apr19. The agenda for the meeting includes the following topics:

—Update on the Planetary Science Division Including an Update on the NASA/ESA Bilateral

—Decadal Survey

—Outer Planets Working Group Report

—Mars Working Group Report

It is imperative that the meeting be held on these dates to accommodate the scheduling priorities of the key participants. Attendees will be requested to sign a register and to comply with NASA security requirements, including the presentation of a valid picture ID, before receiving an access badge. Foreign nationals attending this meeting will be required to provide a copy of their passport, visa, or green card in addition to providing the following information no less than 10 working days prior to the meeting: full name; gender; date/place of birth; citizenship; visa/green card information (number, type, expiration date); passport information (number, country, expiration date); employer/affiliation information (name of institution, address, country, telephone); title/position of attendee. To expedite admittance, attendees with U.S. citizenship can provide identifying information 3 working days in advance by contacting Marian Norris via e-mail at mnorris@nasa.gov or by telephone at (202) 358-4452.

Dated: March 18, 2011.
P. Diane Rausch,
Advisory Committee Management Officer, National Aeronautics and Space Administration and Space Administration.

[FR Doc. 2011-7037 Filed 3-24-11; 8:45 am]

BILLING CODE P